DEPARTMENT OF THE INTERIOR

Bureau of Land Management

[NV-020-2110-IW-F202]

Notice to the Public of Temporary Public Lands Closures and Prohibitions of Certain Activities on Public Lands Administered by the Bureau of Land Management (BLM), Winnemucca Field Office, Nevada

AGENCY: Bureau of Land Management, Interior.

ACTION: Notice of temporary closure.

SUMMARY: Notice is hereby given that certain lands located in northwestern Nevada will be temporarily closed or restricted and certain activities will be temporarily prohibited in and around an area near the city of Winnemucca known as Water Canyon and administered by the BLM Winnemucca Field Office in Humboldt County, Nevada.

The specified closures, restrictions and prohibitions are made in the interest of public and employee safety during the period of heavy construction equipment usage at and around the public lands in an area known as Water Canyon Recreation Area, Zone 1. The temporary closure is needed during the construction phase of the “Water Canyon Implementation Plan Amendment” (Decision Record signed 11/16/05).

DATES: April 1, 2007 through November 30, 2007, inclusive.

FOR FURTHER INFORMATION CONTACT: Dave Hays, Assistant Field Manager, Nonrenewable Resources, Winnemucca Field Office, Bureau of Land Management, Winnemucca Field Office, 5100 E. Winnemucca Blvd., Winnemucca, NV 89445-2921, telephone: (775) 623-1500.

SUPPLEMENTARY INFORMATION: The lands described below will be closed or restricted with regard to the following:

• April 1, 2007 through November 30, 2007 inclusive: Restricted entry by the public into Zone 1 of the Water Canyon Recreation Area during certain time periods as outlined in the sections below, to provide for safety of individuals.

Mount Diablo Meridian

T. 35 N., R. 38 E.,

Sec. 2, S½SW¼ portion inside barbed wire fence;

Sec. 11; NE¼ and N½NW¼ portion inside barbed wire fence.

Sec. 12, SW¼NW¼, N½SW¼, and NW¼ SE¼ portion inside barbed wire fence.

1. Motorized Use

During working hours, Monday thru Friday, motor vehicle use of any kind by the public is prohibited in Zone 1 of the Water Canyon Recreation Area.

2. Public Entry

Public entry of any persons or individuals is prohibited in Zone 1, during working hours from Monday thru Friday.

3. Public Camping

Public camping is prohibited in Zone 1 during this period of construction.

4. Exemptions

(1) Any federal, state or local government officer or member of an organized rescue or fire fighting force while in the performance of official duties.

(2) Any Bureau of Land Management employee, agent, contractor, or cooperator while in the performance of official duties.

(3) Any Federal, State, local, or contract law enforcement officer, while in the performance of their official duties, or while enforcing this closure notice.

(4) Those authorized under 43 CFR.

Authority: 43 CFR 8364.1.

Penalty: Any person failing to comply with the closure orders will be subject to a fine of no more than $1,000 or imprisonment for not more than 12 months, or both.

Jeffrey Fedrizzi,
Acting Field Manager.

[FR Doc. E7-12377 Filed 6-26-07; 8:45 am]

BILLING CODE 4310-HC-P